DEPARTMENT OF HEALTH AND HUMAN SERVICES

Office of the Secretary

Notice of Meeting: Secretary's Advisory Committee on Genetics, Health, and Society

Pursuant to Public Law 92-463, notice is hereby given of a meeting of the Secretary's Advisory Committee on Genetics, Health, and Society (SACGHS), U.S. Public Health Service. The meeting will be held from 8:30 a.m. to 5:30 p.m. on March 1, 2004 and 8 a.m. to 5 p.m. on March 2, 2004 at the Marriott Hotel Bethesda on 5151 Pooks Hill Road, in Bethesda, Maryland. The meeting will be open to the public with attendance limited to space available. The meeting also will be webcast.

The first half of the first day will be devoted to a presentation on and discussion of the work of the Committee's Inter-Meeting Task Force and priority setting process. The second half of the first day will consist of presentations on the issue of coverage and reimbursement, a possible priority area for the Committee. The second day will be entirely devoted to discussions around the top priorities and Committee action in these areas. Time will be provided each day for public comment.

Under authority of 42 U.S.C. 217a, section 222 of the Public Health Service Act, as amended, the Department of Health and Human Services established SACGHS to serve as a public forum for deliberations on the broad range of human health and societal issues raised by the development and use of genetic technologies and, as warranted, to provide advice on these issues.

The draft meeting agenda and other information about SACGHS, including information about access to the webcast, will be available at the following Web site: http://www4.od.nih.gov/oba/sacghs.htm. Individuals who wish to provide public comment or who plan to attend the meeting and need special assistance, such as sign language interpretation or other reasonable accommodations, should notify the SACGHS Executive Secretary, Ms. Sarah Carr, by telephone at (301) 496-9838 or E-mail at sc112c@nih.gov. The SACGHS office is located at 6705 Rockledge Drive, Suite 750, Bethesda, MD 20892.

Dated: January 28, 2004.
LaVerne Stringfield,
Director, Office of Federal Advisory Committee Policy.

[FR Doc. 04-2389 Filed 2-4-04; 8:45 am]

BILLING CODE 4140-01-M